GENERAL SERVICES ADMINISTRATION

[Notice-MEG-2024-02; Docket No. 2024-0002; Sequence No. 29]

Notice of Establishment of a Federal Advisory Committee

AGENCY: Office of Government-wide Policy, General Services Administration (GSA).

ACTION: Notice.

SUMMARY: The General Services Administration (GSA) announces the establishment of the Open Government Federal Advisory Committee (hereinafter “the Committee” or “the OG FAC”) in accordance with the Federal Advisory Committee Act, as amended.

DATES: June 28, 2024.

FOR FURTHER INFORMATION CONTACT: Arthur Brunson, Designated Federal Officer, Office of Government-wide Policy, 202-501-1126, or email: arthur.brunson@gsa.gov; or email: ogfac@gsa.gov.

SUPPLEMENTARY INFORMATION: The Administrator of the U.S. General Services Administration (GSA) established the Open Government Federal Advisory Committee (OG FAC) as a discretionary advisory committee under agency authority in accordance with the provisions of the Federal Advisory Committee Act (FACA), as amended, 5 U.S.C. 10. GSA has determined that the establishment of OG FAC is necessary and in the public interest.

GSA's Open Government Secretariat supports ensuring a more transparent, responsive and inclusive Federal Government. This is done by providing channels for members of the public to regularly engage with their government. The OG FAC will advise GSA in its endeavor to increase the public's access to data, to better advance equity, engage the public in the regulatory process, make government records more accessible, and improve the delivery of government services and benefits through expert advice.

The OG FAC will serve as an advisory body to GSA on GSA Open Government initiatives including GSA's creation, implementation and monitoring of U.S. Open Government National Action Plans (NAPs) and commitment themes. The initial focus for the OG FAC will be to provide advice to GSA on the development of NAP 6, Open Government Policy, and Public Engagement. The OG FAC will advise GSA's Administrator on emerging open government issues, challenges and opportunities to support GSA's Open Government Secretariat.

The OG FAC advisory committee is essential to conduct agency business for GSA and bring together civil society, Federal agencies, academia, industry, and other interested stakeholders. GSA needs a wide diversity of views on Open Government initiatives.

Mehul Parekh,
Acting Associate Administrator, Office of Government-wide Policy, General Services Administration.

[FR Doc. 2024-14259 Filed 6-27-24; 8:45 am]

BILLING CODE 6820-UA-P